OFFICE OF SCIENCE AND TECHNOLOGY POLICY

Expediting Transition of Government Performed and Sponsored Aeronautics Research and Development

AGENCY: National Science and Technology Council, Office of Science and Technology Policy.

ACTION: Notice of request for public comment.

SUMMARY: The National Science and Technology Council seeks public comment on potential means to expedite the transition of government performed or sponsored research and development (R&D) to the private sector for use in developing new civil and military applications that foster economic growth, the creation of high-quality jobs, and national security. In addition, as a means to improve future national aeronautics R&D plans and progress assessments, the Council seeks public comment on the utility of certain national aeronautics R&D planning documents for providing transparency of goals, priorities, and outcomes, with an emphasis on understanding their utility in aiding investment strategies of non-Federal stakeholders.

DATES: Comments will be received through July 16, 2012, 11:59 p.m. EST.

ADDRESSES: Concise comments are requested and may be submitted by any of the following methods:

• Email: aero@ostp.gov. Include “AERONAUTICS COMMENTS” in the subject line of the message.

• Mail: Office of Science and Technology Policy, National Science and Technology Council, Eisenhower Executive Office Building, 1650 Pennsylvania Ave. NW., Washington, DC 20504. Attention: “AERONAUTICS COMMENTS.”

All submissions must be in English and must include your name and return or email address, if applicable. At the discretion of the ASTS, responders may be contacted to seek further clarification or additional information; if you do not wish to be contacted please so indicate in your response. Submitted comments may be subject to public release under applicable law. Submitters are advised to not submit any personally identifiable information (such as social security numbers), or classified or copyrighted material. Any proprietary or business confidential information that is submitted in response to this notice should be clearly labeled at the top of each page.

FOR FURTHER INFORMATION CONTACT:

Dr. Michael C. Romanowski, 202-456-4444. Questions about the content of this notice should be sent to aero@ostp.gov. Include “AERONAUTICS COMMENTS” in the subject line of the message. Questions may also be sent by mail (please allow additional time for processing) to: Office of Science and Technology Policy, Eisenhower Executive Office Building, 1650 Pennsylvania Ave. NW., Washington, DC 20504. Attention: “AERONAUTICS COMMENTS.” Further information or updates related to this notice may be posted at http://www.aeronautics.nasa.gov.

SUPPLEMENTARY INFORMATION:

Purpose

The National Science and Technology Council (NSTC), through the Aeronautics Science and Technology Subcommittee (ASTS) of the Committee on Technology (CoT), seeks public comment on ways to maximize the benefits of Federal aeronautics research and development (R&D) investments.

Background

ASTS seeks to identify innovative means whereby Federal agencies conducting or sponsoring aeronautics R&D can accelerate the transition of advancements to the non-Federal community, thereby further increasing the effectiveness of the national aeronautics enterprise and supporting the creation of high-wage, high-skill jobs within the aerospace sector. ASTS has particular interest in proposals that are actionable within existing legislative authorities, and that would have measurable anticipated payoffs. As rapid progress is desired, it would be helpful if responders identify near-term opportunities as well as improvements with medium-to-long-term payoffs. Responders are encouraged to rank their relative priorities if submitting multiple suggestions.

In December 2006, the National Aeronautics Research and Development Policy was published (see http://www.aeronautics.nasa.gov/releases/national_aeronautics_rd_policy_dec_2006.pdf), marking the first time that a national policy for government performed or sponsored aeronautics R&D was approved by the President. Since then, the first cycle of plans and progress assessments in response to the Policy were completed. The Federal Government published its initial National Plan for Aeronautics Research and Development and Related Infrastructure in 2007, with follow-on updates published in 2010 and 2011. In 2008, an initial assessment of progress against the 2007 plan was also published. Likewise, in December 2011, an assessment against the 2010 aeronautics research and development plan was published. With the completion of the 2011 Progress Assessment of the 2010 National Aeronautics Research and Development Plan, ASTS has completed a five-year national aeronautics R&D planning and assessment cycle. ASTS seeks public comment on the contents and utility of these plans and assessment documents as a means to improve the effectiveness of the federal aeronautics enterprise.

We encourage responders to be specific and to identify innovative approaches, broader use of current best practices, and past practices no longer employed that might be re-implemented. No prioritization is implied by the order in which questions are asked. Please consider the following documents, as appropriate, when responding to the questions:

• National Plan for Aeronautics Research & Development and Related Infrastructure (2007) (http://www.whitehouse.gov/files/documents/ostp/default-file/Final%20National%20Aero%20RD%20Plan%20HIGH%20RES.pdf)

• Technical Appendix to the National Plan for Aeronautics Research and Development and Related Infrastructure (2008) (http://www.whitehouse.gov/files/documents/ostp/default-file/technical_appendix_high.pdf)

• 2010 National Aeronautics Research and Development Plan (http://www.whitehouse.gov/sites/default/files/microsites/ostp/aero-rdplan-2010.pdf)

• 2011 Progress Assessment of the 2010 National Aeronautics Research and Development Plan (http://www.whitehouse.gov/sites/default/files/microsites/ostp/NARDP_2011_Progress_Assessment_final.pdf)

Questions on Technology Transfer and National Aeronautics R&D

Responders are encouraged to respond to any or all of the following questions, and to provide proposed metrics to index improvements where appropriate.

1. Through what mechanisms are you, or your organization, able to obtain visibility into the progress of aeronautics R&D activities conducted or sponsored by the Federal Government? In what ways could your visibility be improved?

2. Through what mechanisms, and to what extent, are you, or your organization, able to access the products of federally sponsored or conducted aeronautics R&D activities? In what ways could access be improved?

3. Since 2007, have you, or your organization, been able to transition any of the products from the specific Federal R&D activities that were performed under the National Aeronautics Research & Development Plans into the products or services developed by your organization? Please discuss, and provide examples of specific mechanisms that facilitated technology transfer or that impeded the process.

4. What other ideas or thoughts do you have for maximizing the benefits of Federal aeronautics R&D, or for increasing the effectiveness of technology transfer from Federally conducted or sponsored R&D to the private sector? Do you have recommendations for success criteria or metrics associated with these areas?

5. Through what mechanisms, and to what extent, are you, or your organization, able to provide input into overall priorities and goals for Federal aeronautics R&D, or into the specific department and agency R&D plans or programs? How could this be improved?

6. What do you perceive to be the impact of the National Aeronautics R&D Policy and its associated plans on the U.S. aeronautics enterprise?

7. To what extent have the national aeronautics plans and assessments helped you, or your organization, understand the overall goals and status of Federal aeronautics R&D?

8. To what extent have the national aeronautics plans and assessments helped you, or your organization, guide your internal R&D strategies, planning or execution?

9. What recommendations would you provide to make future national aeronautics plans and assessments more useful to you or your organization?

Ted Wackler,
Deputy Chief of Staff and Assistant Director.

[FR Doc. 2012-13586 Filed 6-4-12; 8:45 am]

BILLING CODE P